DEPARTMENT OF TRANSPORTATION

Surface Transportation Board

[STB Finance Docket No. 34658]

Alaska Railroad Corporation—Construction and Operation Exemption—Rail Line Between North Pole and Delta Junction, AK

By petition filed on July 6, 2007, Alaska Railroad Corporation (ARRC), a Class III rail carrier incorporated in, and owned by, the State of Alaska, seeks an exemption under 49 U.S.C. 10502 from the prior approval requirements of 49 U.S.C. 10901 for authority to construct and operate approximately 80 miles of new main line track, referred to as the Northern Rail Extension (NRE), in the State of Alaska. The proposed NRE would extend southeasterly from Mile 20 on ARRC's existing Eielson Branch near the community of North Pole (located just south of Fairbanks) to the southern side of the community of Delta Junction.

In a decision served on October 4, 2007, the Board instituted a proceeding under 49 U.S.C. 10502(b). The Board's Section of Environmental Analysis (SEA) has conducted an environmental review of the proposed construction and alternatives. A detailed Draft Environmental Impact Statement (EIS) prepared by SEA together with eight cooperating agencies ¹ was issued for public review and comment on February 2, 2009. SEA then prepared a Final EIS that was issued on September 18, 2009. The Final EIS considered all the comments received on the Draft EIS, reflects SEA's further independent analysis, and sets forth SEA's preferred rail alignments and final recommended environmental mitigation measures.

¹ U.S. Department of Defense Alaskan Command, Bureau of Land Management, Federal Transit Administration, Federal Railroad Administration, U.S. Air Force 354th Fighter Wing Command from Eielson Air Force Base, U.S. Army Corps of Engineers, U.S. Coast Guard, and State of Alaska Department of Natural Resources.

After considering the entire record, including both the transportation aspects of the petition and the potential environmental issues, we granted the requested construction and operation exemption in a decision served on January 6, 2010, permitting ARRC to build any of the preferred rail alignments set out in the decision, subject to compliance with the environmental mitigation measures listed in Appendix 1 of the decision. Vice Chairman Mulvey dissented with a separate expression. Petitions to reopen must be filed by February 5, 2010.

Board decisions and notices are available on our Web site at www.stb.dot.gov.

Decided: January 5, 2010.
By the Board, Chairman Elliott, Vice Chairman Mulvey, and Commissioner Nottingham. Vice Chairman Mulvey dissented with a separate expression.
Kulunie L. Cannon,
Clearance Clerk.

[FR Doc. 2010-217 Filed 1-8-10; 8:45 am]

BILLING CODE 4915-01-P